DEPARTMENT OF THE INTERIOR

National Park Service

National Preservation Technology and Training Board: Meeting

AGENCY: National Park Service, Interior.

ACTION: Notice.

Notice is hereby given in accordance with the Federal Advisory Committee Act, 5 U.S.C. Appendix (1988), that the National Preservation Technology and Training Board (the Board) will meet November 14, 2003, in Natchitoches, LA.

The Board was established by Congress to provide leadership, policy advice, and professional oversight to the National Center for Preservation Technology and Training (NCPTT), as required under the National Historic Preservation Act of 1966, as amended (16 U.S.C. 470).

The Board will meet in Lee H. Nelson Hall, 645 College Ave., Natchitoches, LA 71457. On Friday, November 14, the meeting will start at 9:00 a.m. and end no later than 5:00 p.m. The Board meeting's agenda will include NCPTT operations, budget, and program development; NCPTT business and strategic plans; Preservation Technology and Training grants; and the Heritage Education program; PTT Board workgroup reports; and election of PTT Board chair and vice chair.

The Board meeting is open to the public. Facilities and space for accommodating members of the public are limited, however, and persons will be accommodated on a first-come, first-served basis. Any member of the public may file a written statement concerning the matters to be discussed.

Persons wishing more information concerning this meeting, or who wish to submit written statements, may contact Mr. de Teel Patterson Tiller, Acting Associate Director, Cultural Resources, 1849 C Street NW-3128 MIB, Washington, DC 20240, telephone (202) 208-7625. Increased security in the Washington, DC, area may cause delays in the delivery of U.S. Mail to government offices. In addition to mail or commercial delivery, please fax a copy of the written submission to Mr. Tiller at (202) 273-3237.

Minutes of the meeting will be available for public inspection no later than 90 days after the meeting at the office of the Acting Associate Director, Cultural Resources, 1849 C Street NW, Room 3128, Washington, DC.

Dated: October 3, 2003
de Teel Patterson Tiller
Acting Associate Director, Cultural Resources

[FR Doc. 03-28115 Filed 11-6-03; 8:45 am]

BILLING CODE 4310-50-S